DEPARTMENT OF HEALTH AND HUMAN SERVICES

Administration for Children and Families

Proposed Information Collection Activity; Comment Request

Proposed Projects

Title: Order/Notice to Withhold Income for Child Support.

OMB No.: 0970-0154.

Description: Pub. L. 104-193, The Personal Responsibility and Work Opportunity Reconciliation Act (PRWORA) of 1996, Section 324—Use of Forms in Interstate Enforcement requires the Federal Office of Child Support Enforcement (CSE) agencies and courts/tribunals must use to collect child support payments from an obligor's employer.

The form, which promotes standardization expires 12/31/2000 and we are taking this opportunity to make minor revised to reflect the Uniform Interstate Family Support Act (UIFSA) and the mandate to use for IV-D and non IV-D direct withholding cases. The 2-page form provides a detailed legal description of the established order, support amounts, and remittance information an employer needs to withhold payments from an obligor who owes child support.

Respondents: State, Local, and Tribal Governments.

Annual Burden Estimates:

Instrument | Number of respondents | Number of responses per respondent | Average burden hours per response | Total burden hours
Order/Notice | 54 | 1 | .1666 | 9

Estimated Total Annual Burden Hours: 9.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20477, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 11, 2000.
Bob Sargis,
Reports Clearance Officer.

[FR Doc. 00-23709 Filed 9-14-00; 8:45 am]

BILLING CODE 4184-01-M